DEPARTMENT OF LABOR

Employment and Training Administration

[TA-W-52,673]

Belden Wire & Cable. Richmond, IN; Notice of Termination of Investigation

Pursuant to section 221 of the Trade Act of 1974, an investigation was initiated on August 25, 2003 in response to a worker petition which was filed by a company official on behalf of workers at Belden Wire & Cable, Richmond, Indiana (TA-W-52,673).

The petitioner has requested that the petition be withdrawn. Consequently, the investigation has been terminated.

Signed in Washington, DC this 3rd day of October 2003.
Richard Church,
Certifying Officer, Division of Trade Adjustment Assistance.

[FR Doc. 03-29376 Filed 11-24-03; 8:45 am]

BILLING CODE 4510-30-P